ENVIRONMENTAL PROTECTION AGENCY

[ER-FRL-6680-8]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in FR dated April 7, 2006 (71 FR 17845).

Draft EISs

EIS No. 20060365, ERP No. D1-NAS-A12042-00, Mars Science Laboratory Mission (MSL), To Conduct Comprehensive Science on the Surface of Mars and Demonstrate Technological Advancements in the Exploration of Mars, Using a Radioisotope Power Source in 2009 from Cape Canaveral Air Force Station, FL

Summary: EPA does not object to the proposed action. Rating LO.

EIS No. 20060161, ERP No. D-BLM-L65510-AK, Kobuk-Seward Peninsula Resource Management Plan, from Point Lay to the North Sound and from the Bering and Chukchi Seas East to the Kobuk River, AK

Summary: EPA has concerns about potential adverse impacts to calving and insect relief habitat from resource exploration and development in the area, and recommends additional management measures and monitoring to ensure compatibility of uses. Rating EC2.

EIS No. 20060323, ERP No. D-AFS-L65519-AK, Scratchings Timber Sale Project, Timber Harvest up to Approximately 42 Million Board Feet, Suemez Island, Craig Ranger District, Tongass National Forest, AK

Summary: EPA expressed environmental concerns about stream water quality impacts. Rating EC2.

EIS No. 20060330, ERP No. D-NOA-K90032-CA, Channel Islands National Marine Sanctuary (CINMS) Project, Establishment of No-Take and Limited-Take Marine Zones, Protection of Sanctuary Biodiversity, CA

Summary: While EPA has no objections to the proposed action, EPA believes that Alternative 2 provides greater ecosystem benefits. Rating LO.

EIS No. 20060333, ERP No. D-USA-D11039-MD, U.S. Army Medical Research Institute of Infectious Diseases (USAMRIID), Construction and Operation of New USAMRIID Facilities and Decommissioning and Demolition and/or Re-use of Existing USAMRIID Facilities, Fort Detrick, MD

Summary: EPA does not object to the proposed action. Rating LO.

EIS No. 20060335, ERP No. D-FHW-B40097-NH, Spaulding Turnpike Improvements Project, Reconstruction and Widening of a 3.5-mile Section from U.S. Route 4 and NH Route 16, US Coast Guard Bridge Permit, NPDES Permit and US Army COE Section 404 Permit, Town of Newington, City of Dover, Strafford and Rockingham Counties, NH

Summary: EPA has environmental concerns about potential wetland impacts, and the analyses of air quality and indirect and cumulative impacts. Rating EC2.

EIS No. 20060348, ERP No. D-NPS-F60009-MN, Disposition of Bureau of Mines Property, Twin Cities Research Center Main Campus, Implementation, Hennepin County, MN

Summary: EPA expressed concerns about environmental remediation issues and coordination on historic resources. Rating EC2.

EIS No. 20060285, ERP No. DS-FHW-B40091-ME, Aroostook County Transport Study, New and Updated Information, To Identify Transportation Corridors that will Improve Mobility and Efficiency within Northeastern Aroostook County and other portions of the U.S. and Canada, U.S. Army COE Section 404 Permit, Endangered Species Act, NPDES and Section 10 River and Harbors Act, Aroostook, ME

Summary: EPA expressed environmental concerns about the potential impacts, and to wetlands and other waters, water quality and air quality, and concerns related to secondary development. Rating EC2.

EIS No. 20060359, ERP No. DS-AFS-K65286-CA, Watdog Project, Additional Analysis to Supplement Information, Feather River Ranger District, Plumas National Forest, Butte and Plumas Counties, CA

Summary: EPA expressed environmental concerns about watershed and old-forest wildlife species impacts, and requested additional information on post-project BMP monitoring of water quality Best Management Practices (BMPs). EPA continues to recommend the selection of Alternative D as less environmentally damaging alternative. Rating EC2.

Final EISs

EIS No. 20060379, ERP No. F-BPA-L08064-OR, Klondike III Wind Project (300 megawatts {MW}) and Biglow Canyon Wind Farm (400 megawatts {MW}) Integration Project, Construction and Operation of a Double-Circuit 230-Kilovolt (kV) Transmission, Sherman County, OR

Summary: EPA does not object to the proposed action.

EIS No. 20060394, ERP No. F-BIA-K60036-CA, Elk Valley Rancheria Martin Ranch 203.5-Acre Fee-to-Trust Transfer and Casino/Resort Project, Implementation, Federal Trust, Elk Valley Rancheria Tribe, Crescent City, Del Norte County, CA

Summary: EPA's concerns were addressed in the FEIS; therefore, EPA does not object to the proposed action.

EIS No. 20060369, ERP No. FB-COE-K36100-CA, American River Watershed Project, Post Authorization Decision Document, Folsom Dam Raise, Folsom Bridge Project, Proposal to Construct a Permanent Bridge and Roadway across the American River, City of Folsom, Sacramento County, CA

Summary: No formal comment letter was sent to the preparing agency.

Dated: October 31, 2006.
Robert W. Hargrove,
Director, NEPA Compliance Division, Office of Federal Activities.

[FR Doc. E6-18591 Filed 11-2-06; 8:45 am]

BILLING CODE 6560-50-P